DEPARTMENT OF DEFENSE

Reserve Affairs; Meeting of the Defense Advisory Board (DAB) for Employer Support of the Guard and Reserve (ESGR)

ACTION: Notice of open meeting.

SUMMARY: This DAB meeting will focus on the status of the Reserve Forces outlook, the ESGR strategic plan and support of the Reserve Forces Retention efforts through ensuring supportive employee relations.

DATES: Tuesday, March 8, 2005, 9 a.m. to 4 p.m.

ADDRESSES: Deputy Secretary of Defense Conference Room (3E869), Pentagon.

FOR FURTHER INFORMATION CONTACT: Lt. Col. John Tansill at 703-696-1386 x532 or by e-mail at john.tansill@osd.mil.

Dated: February 1, 2005.
Jeannette Owings-Ballard,
Federal Register Liaison Officer, Department of Defense.

[FR Doc. 05-3661 Filed 2-24-05; 8:45 am]

BILLING CODE 5001-06-M